ENVIRONMENTAL PROTECTION AGENCY

[FRL-7483-1]

Notice of Extension of Public Comment Period on the Draft Final Guidelines for Carcinogen Risk Assessment and the Draft Supplemental Guidance for Assessing Cancer Susceptibility From Early-Life Exposure to Carcinogens

AGENCY: Environmental Protection Agency (EPA).

ACTION: Notice of extension of public comment period.

SUMMARY: This notice extends the comment period for the Draft Final Guidelines for Carcinogen Risk Assessment and the draft Supplemental Guidance for Assessing Cancer Susceptibility from Early-Life Exposure to Carcinogens. The availability of these documents was originally announced in the Federal Register on March 3, 2003 (68 FR 10012).

DATES: Comments must be received by Monday, June 2, 2003.

ADDRESSES: The documents are available via the Internet from www.epa.gov/ncea/raf/cancer2003.htm. Instructions for submitting comments are provided at this website and in the March 3, 2003 Federal Register notice.

FOR FURTHER INFORMATION CONTACT: Dr. William P. Wood, Risk Assessment Forum (mail code 8601D), U.S. Environmental Protection Agency, 1200 Pennsylvania Avenue NW., Washington, DC 20460, telephone 202-564-3361, or send electronic mail inquiries to risk.forum@epa.gov.

SUPPLEMENTARY INFORMATION: In the March 3, 2003 Federal Register (68 FR 10012), EPA announced the availability of, and opportunity to comment on, the Draft Final Guidelines for Carcinogen Risk Assessment (February 2003, NCEA-F-0644A) and the draft Supplemental Guidance for Assessing Cancer Susceptibility from Early-Life Exposure to Carcinogens (EPA/630/R-03/003). The comment period was scheduled to close on May 1, 2003. This notice extends the comment period until June 2, 2003. EPA will consider all comments received by this date in completing final Guidelines and supplemental guidance.

As announced in the Federal Register on April 11, 2003, a panel of EPA's Science Advisory Board (SAB) will meet to review the draft Supplemental Guidance on May 12 to 14, 2003. EPA will provide all public comments on the draft Supplemental Guidance that EPA has received by May 1, 2003 to the SAB review panel prior to its meeting. Comments received by EPA by June 2, 2003 but after May 1, 2003 will also be forwarded to the SAB for consideration by the review panel in completing its report. Comments may also be submitted directly to the SAB in the manner described in the Federal Register notice announcing the SAB meeting. It is the policy of the SAB to accept written comments and accommodate oral public comments wherever possible at its public meetings.

Dated: April 8, 2003.
Paul Gilman,
Assistant Administrator for Research and Development.

[FR Doc. 03-9048 Filed 4-11-03; 8:45 am]

BILLING CODE 6560-50-P